NUCLEAR REGULATORY COMMISSION

[Docket No. 50-443; NRC-2019-0075]

NextEra Energy Seabrook, LLC; Seabrook Station, Unit No. 1

AGENCY: Nuclear Regulatory Commission.

ACTION: License amendment; issuance.

SUMMARY: The U.S. Nuclear Regulatory Commission (NRC) has issued an amendment to Facility Operating License No. NPF-86, issued to NextEra Energy Seabrook, LLC, for operation of the Seabrook Station, Unit No. 1. The amendment revised the Facility Operating License and Updated Final Safety Analysis Report to adopt a methodology for the analysis of seismic Category I structures with concrete affected by alkali-silica reaction.

DATES: The amendment was issued on March 11, 2019.

ADDRESSES: Please refer to Docket ID NRC-2019-0075 when contacting the NRC about the availability of information regarding this document. You may obtain publicly-available information related to this document using any of the following methods:

• Federal Rulemaking Website: Go to http://www.regulations.gov and search for Docket ID NRC-2019-0075. Address questions about NRC Docket IDs in Regulations.gov to Krupskaya Castellon; telephone: 301-287-9221; email: Krupskaya.Castellon@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Justin C. Poole, U.S. Nuclear Regulatory Commission, Washington, DC 20555-0001; telephone: 301-415-2048, email: Justin.Poole@nrc.gov.

SUPPLEMENTARY INFORMATION: The NRC has issued Amendment No. 159 to NextEra Energy Seabrook, LLC, which revised the Facility Operating License and Updated Final Safety Analysis Report for operation of the Seabrook Station, Unit No. 1, located in Rockingham County, New Hampshire. A publicly-available version is available in ADAMS under Accession No. ML18204A291. Documents related to this amendment are listed in the safety evaluation enclosed with the amendment. The amendment was effective as of the date of its issuance.

The application for the amendment complies with the standards and requirements of the Atomic Energy Act of 1954, as amended (the Act), and the Commission's rules and regulations. The Commission has made appropriate findings as required by the Act and the Commission's rules and regulations in chapter I of title 10 of the Code of Federal Regulations (10 CFR), which are set forth in the license amendment.

A Notice of Consideration of Issuance of Amendment and Proposed No Significant Hazards Consideration Determination and Opportunity for Hearing in connection with this action was published in the Federal Register on February 7, 2017 (82 FR 9604). A request for a hearing was filed on April 10, 2017, by C-10 Research and Education Foundation, Inc.

Under its regulations, the Commission may issue and make an amendment immediately effective, notwithstanding the pendency before it of a request for a hearing from any person, in advance of the holding and completion of any required hearing, where it has determined that no significant hazards consideration is involved.

The Commission has applied the standards of 10 CFR 50.92 and has made a final determination that the amendment involves no significant hazards consideration. The basis for this determination is contained in the safety evaluation related to this action. Accordingly, as described above, the amendment has been issued and made immediately effective and any hearing will be held after issuance.

The Commission has determined that this amendment satisfies the criteria for categorical exclusion in accordance with 10 CFR 51.22. Therefore, pursuant to 10 CFR 51.22(b), no environmental impact statement or environmental assessment need be prepared for this amendment.

For further details with respect to this action, see the application for amendment dated August 1, 2016 (ADAMS Package Accession No. ML16216A250), as supplemented by letters dated September 30, 2016; October 3, 2017; October 17, 2017; December 11, 2017; and June 7, 2018 (ADAMS Accession Nos. ML16279A047 (Package), ML17277A337, ML17291B136, ML17345A641, and ML18158A540, respectively).

Dated at Rockville, Maryland, on March 12, 2019.
For the Nuclear Regulatory Commission.
Justin C. Poole,
Project Manager, Plant Licensing Branch I, Division of Operating Reactor Licensing, Office of Nuclear Reactor Regulation.

[FR Doc. 2019-04832 Filed 3-14-19; 8:45 a.m.]

BILLING CODE 7590-01-P